DEPARTMENT OF COMMERCE

International Trade Administration

(A-351-841), (A-570-924), (A-549-825), (A-520-803)

Polyethylene Terephthalate Film, Sheet, and Strip from Brazil, the People's Republic of China, Thailand, and the United Arab Emirates: Postponement of Preliminary Determinations of Antidumping Duty Investigations

AGENCY: Import Administration, International Trade Administration, Department of Commerce.

EFFECTIVE DATE: February 11, 2008.

FOR FURTHER INFORMATION CONTACT: Mike Heaney for Brazil, Erin Begnal for the People's Republic of China, Stephen Bailey for Thailand, and Douglas Kirby for the United Arab Emirates, AD/CVD Operations, Offices 6, 7, and 9, Import Administration, International Trade Administration, U.S. Department of Commerce, 14th Street and Constitution Avenue, NW, Washington, DC 20230; telephone: (202) 482-4475, (202) 482-1442, (202) 482-0193 and (202) 482-3782, respectively.

SUPPLEMENTARY INFORMATION:

Postponement of Preliminary Determinations

On October 26, 2007, the Department of Commerce (the Department) initiated the antidumping duty investigations of polyethylene terephthalate film, sheet, and strip (PET Film) from Brazil, the People's Republic of China, Thailand, and the United Arab Emirates. See Polyethylene Terephthalate Film, Sheet, and Strip (PET Film) from Brazil, the People's Republic of China, Thailand, and the United Arab Emirates: Initiation of Antidumping Duty Investigations, 72 FR 60801 (October 26, 2007). The notice of initiation stated that the Department would issue its preliminary determinations for these investigations no later than 140 days after the date of issuance of the initiation (i.e., March 6, 2008) in accordance with section 733(b)(1)(A) of the Tariff Act of 1930, as amended (the Act). Id. at 60806.

On January 23, 2008, DuPont Teijin Films, Mitsubishi Polyester of America, SKC Inc. and Toray Plastics (America), Inc. (collectively, petitioners) made a timely request pursuant to section 733(c)(1) of the Act and 19 CFR 351.205(e) for a postponement of the preliminary determinations with respect to Brazil, the People's Republic of China, Thailand, and the United Arab Emirates. The petitioners requested postponement of the preliminary determinations with respect to these four countries, explaining that they need time to evaluate questionnaire responses, the submissions of which were extended by the Department. Additionally, petitioners stated that they intend to file sales-below-cost allegations with respect to Thailand and the United Arab Emirates, and anticipated that the Department will need time to adequately analyze these allegations.

For the reasons identified by the petitioners and because there are no compelling reasons to deny the request, the Department is postponing the deadline for the preliminary determinations with respect to Brazil, the People's Republic of China, Thailand, and the United Arab Emirates pursuant to section 733(c)(1)(A) of the Act by 50 days to April 25, 2008. The deadline for the final determinations will continue to be 75 days after the date of the preliminary determinations, unless extended.

This notice is issued and published pursuant to sections 733(c)(2) and 777(I) of the Act, and 19 CFR 351.205(f)(1).

Dated: February 4, 2008.
David M. Spooner,
Assistant Secretary for Import Administration.

[FR Doc. E8-2460 Filed 2-8-08; 8:45 am]

BILLING CODE 3510-DS-S